DEPARTMENT OF ENERGY

Federal Energy Regulatory Commission

Combined Notice of Filings #1

Take notice that the Commission received the following exempt wholesale generator filings:

Docket Numbers: EG20-182-000.

Applicants: Rattlesnake Flat, LLC.

Description: Notice of Self-Certification of Exempt Wholesale Generator Status.

Filed Date: 6/8/20.

Accession Number: 20200608-5191.

Comments Due: 5 p.m. ET 6/29/20.

Take notice that the Commission received the following electric rate filings:

Docket Numbers: ER19-1172-003.

Applicants: Wisconsin Electric Power Company.

Description: Compliance filing: Settlement Compliance Filing to be effective 1/1/2018.

Filed Date: 6/9/20.

Accession Number: 20200609-5099.

Comments Due: 5 p.m. ET 6/30/20.

Docket Numbers: ER20-2015-000.

Applicants: Pacific Gas and Electric Company.

Description: Request for One-Time Waiver of Pacific Gas and Electric Company.

Filed Date: 6/8/20.

Accession Number: 20200608-5212.

Comments Due: 5 p.m. ET 6/29/20.

Docket Numbers: ER20-2016-000.

Applicants: Gichi Noodin Wind Farm, LLC.

Description: Baseline eTariff Filing: Gichi Noodin Wind Farm LLC MBR Application Filing to be effective 8/1/2020.

Filed Date: 6/9/20.

Accession Number: 20200609-5044.

Comments Due: 5 p.m. ET 6/30/20.

Docket Numbers: ER20-2017-000.

Applicants: Innolith Snook, LLC.

Description: Tariff Cancellation: Tariff cancellation to be effective 6/9/2020.

Filed Date: 6/9/20.

Accession Number: 20200609-5082.

Comments Due: 5 p.m. ET 6/30/20.

Docket Numbers: ER20-2018-000.

Applicants: Versant Power.

Description: Section 205(d) Rate Filing: Service Agreements Notice of Succession to Versant Power to be effective 5/11/2020.

Filed Date: 6/9/20.

Accession Number: 20200609-5138.

Comments Due: 5 p.m. ET 6/30/20.

Docket Numbers: ER20-2019-000.

Applicants: Gray County Wind, LLC.

Description: Baseline eTariff Filing: Gray County Wind, LLC Application for MBR Authority to be effective 8/9/2020.

Filed Date: 6/9/20.

Accession Number: 20200609-5156.

Comments Due: 5 p.m. ET 6/30/20.

Take notice that the Commission received the following electric reliability filings:

Docket Numbers: RR19-8-001.

Applicants: North American Electric Reliability Corporation.

Description: Request of the North American Electric Reliability Corporation to expend funds to develop the ERO Enterprise Secure Evidence Locker.

Filed Date: 6/8/20.

Accession Number: 20200608-5222.

Comments Due: 5 p.m. ET 6/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2020.
Nathaniel J. Davis, Sr.,
Deputy Secretary.

[FR Doc. 2020-13017 Filed 6-16-20; 8:45 am]

BILLING CODE 6717-01-P